DEPARTMENT OF JUSTICE

[OMB Number 1117-NEW]

Agency Information Collection Activities; Proposed eCollection, eComments Requested; New Proposed Collection, Exempt Chemical Preparations Application

AGENCY: Drug Enforcement Administration, Department of Justice.

ACTION: 30-Day notice.

SUMMARY: The Department of Justice (DOJ), Drug Enforcement Administration (DEA), will be submitting the following information collection request to the Office of Management and Budget (OMB) for review and approval in accordance with the Paperwork Reduction Act of 1995. This proposed information collection was previously published in the Federal Register on April 26, 2021, at 86 FR 22070, allowing for a 60-day comment period. No comments were received.

DATES: Comments are encouraged and will be accepted for 30 days until August 5, 2021.

FOR FURTHER INFORMATION CONTACT: Written comments and recommendations for the proposed information collection should be sent within 30 days of publication of this notice to www.reginfo.gov/public/do/PRAMain. Find this particular information collection by selecting “Currently under 30-day Review—Open for Public Comments” or by using the search function.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Evaluate whether and if so how the quality, utility, and clarity of the information proposed to be collected can be enhanced; and

—Minimize the burden of the collection of information on those who are to respond, including through the use of appropriate automated, electronic, mechanical, or other forms of information technology, e.g., permitting electronic submission of responses.

Overview of This Information Collection

1. Type of Information Collection: New collection.

2. Title of the Form/Collection: Exempt Chemical Preparations Application.

3. The agency form number, if any, and the applicable component of the Department sponsoring the collection: N/A. The applicable component within the Department of Justice is the Drug Enforcement Administration, Diversion Control Division.

4. Affected public who will be asked or required to respond, as well as a brief abstract: Affected public: Business or other for-profit.

Abstract: Pursuant to 21 U.S.C. 811(g)(3)(B), DEA (by delegation of authority from the Attorney General) may, by regulation, exempt from specific provisions of the Controlled Substances Act (CSA) any compound, mixture, or preparation containing any controlled substance, which is not for administration to a human being or animal, and which is packaged in a certain manner, so that as packaged it does not present any significant potential for abuse. In accordance with 21 CFR 1308.23(f), the Administrator (or the Deputy Assistant Administrator), at any time, may revoke or modify any exemption granted pursuant to 21 CFR 1308.23; modify or revoke the criteria by which exemptions are granted; and modify the scope of exemptions.

5. An estimate of the total number of respondents and the amount of time estimated for an average respondent to respond: The below table presents information regarding the number of respondents, responses and associated burden hours.

Labor category | Number | % of time | Cost
Chemist, GS-14, step 5 | 3 | 30 | $200,967
Unit Chief, GS-14, step 5 | 1 | 5 | 11,165
Section Chief, GS-15, step 5 | 1 | 1 | 2,627
Total |  |  | 214,758

6. An estimate of the total public burden (in hours) associated with the proposed collection: DEA estimates that this collection takes 2,093 annual burden hours.

If additional information is required please contact: Melody Braswell, Department Clearance Officer, United States Department of Justice, Justice Management Division, Policy and Planning Staff, Two Constitution Square, 145 N Street NE, Suite 3E.405B, Washington, DC 20530.

Dated: June 30, 2021.
Melody Braswell,
Department Clearance Officer for PRA, U.S. Department of Justice.

[FR Doc. 2021-14329 Filed 7-2-21; 8:45 am]

BILLING CODE 4410-09-P